DEPARTMENT OF LABOR

Bureau of Labor Statistics

Labor Research Advisory Council; Notice of Meetings and Agenda

The Spring meetings of committees of the Labor Research Advisory Council will be held on June 2, 3, and 4, 2003. All of the meetings will be held in the Conference Center, of the Postal Square Building (PSB), 2 Massachusetts Avenue, NE., Washington, DC.

The Labor Research Advisory Council and its committees advise the Bureau of Labor Statistics with respect to technical matters associated with the Bureau's programs. Membership consists of union research directors and staff members. The schedule and agenda of the meetings are as follows:

Monday, June 2, 2003

9:30 a.m.—Committee on Employment and Unemployment Statistics—Meeting Room 9

1. Review of current program developments.

2. Discussion of new business.

3. Topics for next meeting.

1:30 p.m.—Committee on Prices and Living Conditions—Meeting Room 9

1. Update on program developments.

a. Consumer Price Indexes.

b. International Price Indexes.

c. Producer Price Indexes.

2. Topics for next meeting.

Tuesday, June 3, 2003

9:30 a.m.—Committee on Compensation and Working Conditions—Meeting Room 9

1. Discussion of current program developments.

2. New business.

3. Topics for next meeting.

1:30 p.m.—Committee on Occupational Safety and Health Statistics—Meeting Room 9

1. Status reports.

2. Injuries and Illnesses.

3. Topics for next meeting.

Wednesday, June 4, 2003

9:30 a.m.—Committee on Productivity, Technology and Growth—Meeting Room 9

1. Brief update on Office of Productivity and Technology plans for conversion to the North American Industry Classification System (NAICS)

2. Industry productivity measures for the service sector: Overview of trends and plans for future development

3. Update for Office of Occupational Statistics and Employment Projections

4. Can occupational labor shortages be identified using available data?

5. Topics for next meeting: Committee on Foreign Labor Statistics—Meeting Room 9

1. Program update

2. International trends in manufacturing productivity

3. Topics for next meeting

The meetings are open to the public. Persons with disabilities, who need special accommodations, should contact Wilhelmina Abner on 202-691-5970. Persons who wish to attend these meetings as observers should also contact Ms. Abner to facilitate their admission to the building.

Due to scheduling difficulties, we are unable to provide the full fifteen days of advance notice of this meeting.

Signed at Washington, DC this 23rd day of May, 2003.
Kathleen P. Utgoff,
Commissioner.

[FR Doc. 03-13391 Filed 5-27-03; 8:45 am]

BILLING CODE 4510-24-P